DEPARTMENT OF HOMELAND SECURITY

Coast Guard

[Docket No. USCG-2024-0434]

National Offshore Safety Advisory Committee; Vacancies

AGENCY: U.S. Coast Guard, Department of Homeland Security.

ACTION: Notice; request for applications.

SUMMARY: The Coast Guard is requesting applications to fill ten vacancies on the National Offshore Safety Advisory Committee (Committee). This Committee advises the Secretary of the Department of Homeland Security on matters relating to activities directly involved with, or in support of, the exploration of offshore mineral and non-mineral energy resources, to the extent that such matters are within the jurisdiction of the Coast Guard.

DATES: Your completed application should reach the U.S. Coast Guard on or before October 15, 2024.

ADDRESSES: Applications must include: (a) a cover letter expressing interest in an appointment to the National Offshore Safety Advisory Committee and detailing the applicants qualifications to serve as Special Government Employee representing the general public, and/or as a representative in one or more of the ten other membership positions, (b) a resume detailing the applicant's relevant experience for the position applied for, and (c) a brief 2-3 paragraph biography written in third person. Applications should be submitted via email with subject line “NOSAC Vacancy Application” to Patrick.W.Clark@uscg.mil or to Justin.P.Goff@uscg.mil.

FOR FURTHER INFORMATION CONTACT: Mr. Patrick W. Clark, Designated Federal Officer of the National Offshore Safety Advisory Committee; telephone 571-607-8236; or email at Patrick.W.Clark@uscg.mil; or Lieutenant Justin Goff, Alternate Designated Federal Officer; telephone (571) 610-0130; or email at Justin.P.Goff@uscg.mil.

SUPPLEMENTARY INFORMATION: The National Offshore Safety Advisory Committee is a Federal advisory committee. The Committee was established on December 4, 2018, by section 601 of the Frank LoBiondo Coast Guard Authorization Act of 2018 (Pub. L. 115-282, 132 Stat. 4284), and amended by section 8331 of the Elijah E. Cummings Coast Guard Authorization Act of 2020 (Pub. L. 116-283, 134 Stat. 4702) and is codified in 46 U.S.C. 15106. The Committee operates under the provisions of the Federal Advisory Committee Act and 46 U.S.C. 15109.

The Committee provides advice and recommendations to the Secretary of Homeland Security on matters relating to activities directly involved with, or in support of, the exploration of offshore mineral and non-mineral energy resources, to the extent that such matters are within the jurisdiction of the U.S. Coast Guard.

The Committee is required to meet at least once a year in accordance with 46 U.S.C. 15109(a). We expect the Committee to meet at least twice a year, but it may meet more frequently. The meetings are generally held in Houston, Texas and New Orleans, Louisiana.

Under provisions in 46 U.S.C. 15109(f)(6), if you are appointed as a member of the Committee, your membership term will expire on December 31st of the third full year after the effective date of your appointment. Under provisions in 46 U.S.C. 15109(f)(4) the Secretary of Homeland Security may require an individual to have passed an appropriate security background examination before appointment to the Committee. All members serve at their own expense and receive no salary or other compensation from the Federal Government.

If you are appointed as a member of the Committee, you will be required to sign a Non-Disclosure Agreement and a Gratuitous Services Agreement.

In this solicitation for Committee Members, we will consider applications for the following ten positions:

(a) Two members representing entities engaged in the production of petroleum. (Two of two positions are open).

(b) One member representing entities engaged in offshore drilling. (One of two positions is open).

(c) One member representing entities engaged in the support, by offshore supply vessels or other vessels, of offshore mineral and oil operations, including geophysical services. (One of two positions is open).

(d) One member representing entities engaged in diving services related to offshore construction, inspection, and maintenance.

(e) One member representing entities engaged in safety and training services related to offshore exploration and construction.

(f) One member representing entities providing subsea engineering construction or remotely operated vehicle support to the offshore industry.

(g) One member representing entities individuals employed in offshore operations and, of the two, one shall have recent practical experience on a vessel or offshore unit involved in the offshore mineral and energy industry. (One of two positions are open).

(h) One member representing national environmental entities and entities providing environmental protection, compliance, or response services to the offshore industry.

(i) One member representing the general public (but not a specific environmental group).

The members who will fill positions (a) through (h) as described above will be appointed to represent the interest of their respective groups and viewpoints and are not Special Government Employees as defined in 18 U.S.C. 202(a).

If you are selected to fill position (i) as described above, as a member drawn from the general public, you will be appointed and serve as a Special Government Employee as defined in 18 U.S.C. 202(a). Applicants for appointment as a Special Government Employee are required to complete a Confidential Financial Disclosure Report (OGE Form 450) for new entrants and if appointed as a member must submit OGE Form 450 annually. The U.S. Coast Guard may not release the reports or the information in them to the public except under an order issued by a Federal Court or as otherwise provided under the Privacy Act (5 U.S.C. 552a). Only the Designated U.S. Coast Guard Ethics Official or his or her designee may release a Confidential Financial Disclosure Report. Applicants can obtain this form by going to the website of the Office of Government Ethics (www.oge.gov), or by calling or emailing the individuals listed above in the FOR FURTHER INFORMATION CONTACT section.

Registered lobbyists are not eligible to serve on Federal Advisory Committees in an individual capacity. See “Revised Guidance on Appointment of Lobbyists to Federal Advisory Committees, Boards and Commissions” (79 FR 47482, August 13, 2014). Registered lobbyists are “lobbyists,” as defined in 2 U.S.C. 1602, who are required by 2 U.S.C. 1603 to register with the Secretary of the Senate and the Clerk of the House of Representatives.

In order for the Department, to fully leverage broad-ranging experience and education, the National Offshore Safety Advisory Committee must be diverse with regard to professional and technical expertise. The Department is committed to pursuing opportunities, consistent with applicable law, to compose a committee that reflects the diversity of the Nation's people.

If you are interested in applying to become a member of the Committee, email your application to Patrick.W.Clark@uscg.mil or Justin.P.Goff@uscg.mil as provided in the ADDRESSES section of this notice.

Applications for members who will serve to represent the general public must be accompanied by a completed OGE Form 450. Once we receive your application we will send you an email confirming receipt.

The U.S. Coast Guard will not consider incomplete or late applications.

Privacy Act Statement

Purpose: To obtain qualified applicants to fill ten vacancies on the National Offshore Safety Advisory Committee. When you apply for appointment to the DHS' National Offshore Safety Advisory Committee, DHS collects your name, contact information, and any other personal information that you submit in conjunction with your application. DHS will use this information to evaluate your candidacy for Committee membership. If you are chosen to serve as a Committee member, your name will appear in publicly available Committee documents, membership lists, and Committee reports.

Authorities: 14 U.S.C. 504; 46 U.S.C. 15106 and 15109; and 18 U.S.C. 202(a), and Department of Homeland Security Delegation No. 00915.

Routine Uses: Authorized U.S. Coast Guard personnel will use this information to consider and obtain qualified candidates to serve on the Committee. Any external disclosures of information within this record will be made in accordance with DHS/ALL-009, Department of Homeland Security Advisory Committee (73 FR 57639, October 3, 2008).

Consequences of Failure to Provide Information: Furnishing this information is voluntary. However, failure to furnish the requested information may result in your application not being considered for the Committee.

Dated: September 5, 2024.
Jeffrey G. Lantz,
Director of Commercial Regulations and Standards.

[FR Doc. 2024-20804 Filed 9-12-24; 8:45 am]

BILLING CODE 9110-04-P